DEPARTMENT OF TRANSPORTATION

Federal Aviation Administration

14 CFR Part 25

[Docket No. NM266; Special Conditions No. 25-255A-SC]

Special Conditions: Airbus Model A320 Airplanes; Child Restraint System

AGENCY: Federal Aviation Administration (FAA), DOT.

ACTION: Amended final special conditions; request for comments.

SUMMARY: These amended special conditions are for Airbus Model A320 airplanes. These airplanes, as modified by AMSAFE Inc., will have the novel and unusual design feature of a child restraint system that attaches to the existing passenger lap belt. Special Conditions No. 25-255-SC were issued for this novel and unusual design feature on December 8, 2003. These special conditions contained dynamic test requirements. AMSAFE subsequently applied to amend those special conditions so that the requirements would be applicable to and appropriate for the certification basis of the Airbus A320 airplane. The A320 type certification basis requires only static testing for seats. The applicable airworthiness regulations, including those contained in Special Conditions No. 25-255-SC, do not contain adequate or appropriate safety standards for this design feature. These special conditions contain the appropriate (i.e., static testing) safety standards that the Administrator considers necessary to establish a level of safety equivalent to that established by the existing airworthiness standards for the A320 airplanes.

DATES: The effective date of these special conditions is March 31, 2005.

Comments must be received on or before May 26, 2005.

FOR FURTHER INFORMATION CONTACT: Alan Sinclair, FAA, Airframe and Cabin Safety Branch, ANM-115, Transport Airplane Directorate, Aircraft Certification Service, 1601 Lind Avenue SW., Renton, Washington, 98055-4056; telephone (425) 227-2195; facsimile (425) 227-1149, e-mail alan.sinclair@faa.gov.

SUPPLEMENTARY INFORMATION:

Comments Invited

The FAA has determined that notice and opportunity for prior public comment is impracticable because these special conditions have been subject to the public comment process in several prior instances with no substantive comments received. The FAA therefore finds that good cause exists for making these special conditions effective upon issuance; however, we invite interested persons to participate in this rulemaking by submitting written comments, data, or views. The most helpful comments reference a specific portion of the special conditions, explain the reason for any recommended change, and include supporting data. We ask that you send us two copies of written comments.

We will file in the docket all comments we receive, as well as a report summarizing each substantive public contact with FAA personnel concerning these special conditions. The docket is available for public inspection before and after the comment closing date. If you wish to review the docket in person, go to the address in the ADDRESSES section of this preamble between 7:30 a.m. and 4 p.m. Monday through Friday, except Federal holidays.

We will consider all comments we receive on or before the closing date for comments. We will consider comments filed late if it is possible to do so without incurring expense or delay. We may change these special conditions in light of the comments received.

If you want the FAA to acknowledge receipt of your comments on these special conditions, include with your comments a pre-addressed, stamped postcard on which the docket number appears. We will stamp the date on the postcard and mail it back to you.

Background

On February 12, 2003, AMSAFE Inc., P.O. Box 1570, Higley, Arizona 85236, applied for a supplemental type certificate for the modification of Airbus Model A320 airplanes. The modification includes a child restraint system (identified by AMSAFE as a child safety system (CSS)) that wraps horizontally around the seat back and attaches to the existing passenger lap belt. It can be installed on certain seats of Airbus Model A320 airplanes in order to reduce potential for injury in the event of an accident. The Model A320 is a swept-wing, conventional tail, twin-engine, turbofan-powered transport airplane.

Because the existing airworthiness standards of 14 CFR part 25 do not address CSS, the FAA developed special conditions to address this design feature. Special Conditions No. 25-255-SC were issued to AMSAFE Inc. on December 8, 2003, and published in the Federal Register on December 17, 2003 (66 FR 70133).

Type Certification Basis

Under the provisions of § 21.101, AMSAFE Inc. must show that the Airbus Model A320 airplanes, as changed, continue to meet the applicable provisions of the regulations incorporated by reference in Type Certificate No. A28NM, or the applicable regulations in effect on the date of application for the change. The regulations incorporated by reference in the type certificate are commonly referred to as the “original type certification basis.” The regulations incorporated by reference in Type Certificate No. A28NM are as follows: 14 CFR part 25, effective February 1, 1965, including Amendments 25-1 through 25-56; SFAR 27, effective February 1, 1974, including Amendments 27-1 through 27-5; and 14 CFR part 36 effective December 1, 1969, including Amendments 36-1 through 36-12. In addition, the certification basis includes other regulations and special conditions that are not pertinent to these special conditions.

If the Administrator finds that the applicable airworthiness regulations (i.e., 14 CFR part 25) do not contain adequate or appropriate safety standards for the Airbus Model A320 airplanes because of a novel or unusual design feature, special conditions are prescribed under the provisions of § 21.16.

In addition to the applicable airworthiness regulations and special conditions, the Airbus Model A320 airplanes must comply with the fuel vent and exhaust emission requirements of 14 CFR part 34 and the noise certification requirements of 14 CFR part 36.

Special conditions, as defined in § 11.19, are issued in accordance with § 11.38 and become part of the type certification basis in accordance with § 21.101.

Special conditions are initially applicable to the model for which they are issued. Should AMSAFE Inc. apply for a supplemental type certificate to modify any other model included on the same type certificate to incorporate the same or similar novel or unusual design feature, the special conditions would also apply to the other model under the provisions of § 21.101.

Novel or Unusual Design Features

The AMSAFE Inc., Child Safety System (CSS) is an improved harness type child restraint system (CRS) that utilizes the seat back and the lap belt on passenger seats to provide upper torso restraint and to improve the restraint of small children. The physical characteristics of small children will govern the use of the CSS and must be defined according to accepted classification standards. The device is intended for children in the 1- to 4-year age group who are prohibited from being held in their parents' arms during taxi, take-off, and landing and must occupy their own passenger seat, typically with no supplemental restraint. The CSS is made with webbing and fastening hardware and consists of an adjustable strap that wraps horizontally around the seat back to secure the device to the passenger seat, and a double shoulder harness that is fastened around the child's upper torso. The ends of the device's shoulder harness are held in place using the existing passenger lap belt that is passed through two open loops on the lower ends of the device's shoulder straps. The current part 25 airworthiness regulations are not adequate to define the necessary certification criteria.

Discussion

The CSS is a non-conforming CRS that is not approved for use on aircraft per Federal Motor Vehicle Safety Standard (FMVSS) 213 and as such the design requirements are established in these special conditions. It is a safety restraint device specifically designed for use by small children on aircraft.

The applicable airworthiness regulations do not contain adequate or appropriate safety standards for this particular design feature. Additional safety standards are therefore necessary to establish a level of safety equivalent to that established in the regulations.

As discussed earlier, the applicable airworthiness standards for the Airbus Model A-320 are part 25, Amendments 25-1 through 25-56. The requirement for dynamic seat testing (§ 25.562) was adopted in Amendment 25-64 and is not included in the certification basis for this airplane. Nevertheless, at the applicant's request, dynamic testing requirements were included in the original special conditions. However, the seats on which the CSS are to be installed are not currently required to be dynamically tested and in most cases would not pass this test. Since the CSS would not improve the performance of the seats themselves, requiring this test for the CSS would serve no useful purpose. Therefore, we are revising Special Condition No. 1 to remove the requirement for dynamic testing.

Original Special Condition No. 9 contained a related requirement to show that the CSS would not cause the occupant's passenger seat back to fold over during a crash situation. But the seat itself is not required to meet this condition, even without the CSS installed. Therefore, this requirement is also inappropriate, and we are rescinding original Special Condition No. 9.

Additionally, the operating regulations, 14 CFR 91.107 and 121.311, prohibit the use of any “vest-type child restraints, and harness-type child restraints” for commercial and private use operations. In order for the CSS, which is a harness-type child restraint, to be useable in the U.S., AMSAFE Inc., or their agent, must petition the FAA for an exemption from the operating regulations. The petition must be granted in order to allow use of the CSS.

The following special conditions can be characterized as addressing the safety performance of the system and the capability of the system to be installed and utilized without creating additional safety concerns. Because of the nature of the system and the direct interface with the crew and passengers, as well as the intended occupants, these special conditions are more rigorous from a design standpoint than the standard lapbelt installation.

Applicability

As discussed above, these special conditions are applicable to the Airbus Model A320 airplanes modified by AMSAFE Inc. Should AMSAFE Inc. apply at a later date for a supplemental type certificate to modify any other model included on Type Certificate No. A28NM to incorporate the same or similar novel or unusual design feature, these special conditions would apply to that model as well under the provisions of § 21.101.

Comments Invited

The substance of these special conditions, in similar form, has been previously subjected to public comment and all of the four comments from the single commenter have been fully considered and addressed. It is unlikely that prior public comment would result in a significant change from the substance contained herein. For this reason, the FAA finds that good cause exists for making these special conditions effective upon issuance. The FAA is requesting comments to allow interested persons to submit views that may not have been submitted in response to the prior opportunities for comment described above.

Conclusion

This action affects only certain novel or unusual design features on Airbus Model A320 airplanes. It is not a rule of general applicability, and it affects only the applicant who applied to the FAA for approval of these features on the airplane.

List of Subjects in 14 CFR Part 25

Aircraft, Aviation safety, Reporting and recordkeeping requirements.

Authority Citation

The authority citation for these special conditions is as follows:

Authority: 49 U.S.C. 106(g), 40113, 44701, 44702, 44704.

The Amended Special Conditions

Accordingly, pursuant to the authority delegated to me by the Administrator, the following special conditions are issued as part of the type certification basis for the Airbus Model A320 airplanes modified by AMSAFE Inc.

1. The child safety system (CSS), when used in conjunction with a standard two-point lap belt system, must provide upper and lower torso restraint for the range of occupant sizes for which the system is designed in accordance with sections 2.3 and 2.4 of the Society of Automotive Engineers Aerospace Standard 5276/1.

2. Means must be provided to prevent the use of the CSS with children who are outside the range of statures that the system was designed and tested for. The range of statures for which the CSS is approved must be clearly labeled on the device (i.e., weight and height).

3. There must be obvious, clear, and concise instructions readily available to the flight and cabin crew as to the proper installation and use of the CSS system.

4. The design of the CSS must prevent it from being incorrectly buckled and/or incorrectly installed such that the CSS would not properly perform its intended function.

5. The strength of the CSS assembly shall be demonstrated by static test. The assembly shall not fail when a 1500 lbs. load is applied to the device in accordance with the static test requirements of SAE AS 8043, “Torso Restraint Systems,” March 1986, Section 6, Requirements for Assembly Performance.

6. The CSS must not impede rapid egress of the occupant using the CSS and must not impede the rapid egress of the occupants seated in the same row.

7. Means must be provided to prohibit the installation and use of the CSS in the following seats and seat locations:

a. Emergency exit rows

b. Behind any wall or seat back that has an inflatable airbag

c. Any passenger seat that has an inflatable restraint system

d. Side-facing seats

8. It must be shown that the performance of the CSS will not be degraded by tray tables, phones, or other devices installed in the seat back.

9. Passenger seats approved for installation of the CSS must be clearly identified to the installer by aircraft and seat model number.

10. Since 14 CFR 91.107 and 14 CFR 121.311 currently prohibit the use of any “vest-type child restraints, and harness-type child restraints” in commercial and private use operations, it is incumbent upon an operator who wishes to use the CSS to petition FAA Flight Standards for exemption from these two regulations. The exemption must be granted in order for the system to be used by a U.S. operator.

Issued in Renton, Washington, on March 31, 2005.
Kalene C. Yanamura,
Acting Manager, Transport Airplane Directorate, Aircraft Certification Service.

[FR Doc. 05-7195 Filed 4-8-05; 8:45 am]

BILLING CODE 4910-13-P